DEPARTMENT OF COMMERCE

National Oceanic and Atmospheric Administration

RIN 0648-XA096

Marine Mammals; File No. 14335

AGENCY: National Marine Fisheries Service (NMFS), National Oceanic and Atmospheric Administration (NOAA), Commerce.

ACTION: Notice; receipt of application for permit amendment.

SUMMARY: Notice is hereby given that the Alaska SeaLife Center, Seward, AK, has applied for an amendment to Scientific Research Permit No. 14335.

DATES: Written, telefaxed, or e-mail comments must be received on or before January 21, 2011.

ADDRESSES: The application and related documents are available for review by selecting “Records Open for Public Comment” from the Features box on the Applications and Permits for Protected Species home page, https://apps.nmfs.noaa.gov, and then selecting File No. 14335 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Amy Sloan, (301) 713-2289.

SUPPLEMENTARY INFORMATION: The subject amendment to Permit No. 14335 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 14335, issued on August 17, 2009 (74 FR 44822), authorizes the permit holder to take Steller sea lions (Eumetopias jubatus) during investigations of the decline of the western stock and its failure to recover, and to assist recovery efforts. Data may be obtained on juvenile survival, epidemiology, endocrinology, immunology, virology, physiology, ontogenetic and annual body condition cycles, foraging behavior and habitat selection. Pups and juveniles of both sexes in the Gulf of Alaska may be captured each year, with a subset of juveniles selected for temporary quarantine captivity and associated projects at the ASLC. Activities involve capture, drug administration, anesthesia, fecal and urine collection, external and internal instruments, marking, morphometrics, behavioral observations, photogrammetry, tissue sampling, ultrasound, and x-ray. The permit also authorizes research-related mortality of Steller sea lions from the western stock.

The permit holder is requesting the permit be amended to revise terms and conditions related to mitigation for temporary captivity, and associated post-surgical and hot-branding monitoring. Specifically, the permit holder requests permission to: (1) Reduce the post-surgical monitoring from 14 days to 10 days prior to release; (2) surgically implant animals that are below capture mass; and (3) retain for surgical implantation and other captive studies animals that fail to feed within 10 days of capture.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of this application to the Marine Mammal Commission and its Committee of Scientific Advisors.

Dated: December 15, 2010.
Tammy C. Adams,
Acting Chief, Permits, Conservation and Education Division, Office of Protected Resources, National Marine Fisheries Service.

[FR Doc. 2010-32162 Filed 12-21-10; 8:45 am]

BILLING CODE 3510-22-P